DEPARTMENT OF ENERGY

Federal Energy Regulatory Commission

[Docket No. IC22-30-000]

Commission Information Collection Activities (FERC-725N) Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-725N (Mandatory Reliability Standards TPL-007-4, Transmission System Planned Performance for Geomagnetic Disturbance Events).

DATES: Comments on the collection of information are due November 28, 2022.

ADDRESSES: You may submit your comments (identified by Docket No. IC22-30-000) by one of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Addressed to: Federal Energy Regulatory Commission, Secretary of the Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov, telephone at (202) 502-8663.

SUPPLEMENTARY INFORMATION:

Title: FERC-725N, Mandatory Reliability Standards TPL-007-4, Transmission System Planned Performance for Geomagnetic Disturbance Events.

OMB Control No.: 1902-0264

Type of Request: Extension of the currently approved collection

Abstract: The Reliability Standard TPL-007-4 requires owners and operators of the Bulk-Power System to conduct initial and on-going vulnerability assessments of the potential impact of defined geomagnetic disturbance events on Bulk-Power System equipment and the Bulk-Power System as a whole. Specifically, the Reliability Standard requires entities to develop corrective action plans for vulnerabilities identified through supplemental geomagnetic disturbance vulnerability assessments and requires entities to seek approval from the Electric Reliability Organization of any extensions of time for the completion of corrective action plan items.

On August 8, 2005, Congress enacted into law the Electricity Modernization Act of 2005, which is Title XII, Subtitle A, of the Energy Policy Act of 2005 (EPAct 2005).¹ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.²

¹ Energy Policy Act of 2005, Public Law 109-58, Title XII, Subtitle A, 119 Stat. 594, 941 (codified at 16 U.S.C. 824o).

² 16 U.S.C. 824o(e)(3).

On February 3, 2006, the Commission issued Order No. 672, implementing section 215 of the FPA.³ Pursuant to Order No. 672, the Commission certified one organization, North American Electric Reliability Corporation (NERC), as the ERO.⁴ The Reliability Standards developed by the ERO and approved by the Commission apply to users, owners and operators of the Bulk-Power System as set forth in each Reliability Standard.

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁴ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

On February 7, 2020, the North American Electric Reliability Corporation filed a petition seeking approval of proposed Reliability Standard TPL-007-4 (Transmission System Planned Performance for Geomagnetic Disturbance Events).

NERC's filed petition was noticed on February 11, 2020, with interventions, comments and protests due on or before March 9, 2020. No interventions or comments were received.

The Delegated Letter Order (DLO) was issued on March 19, 2020. The standard went into effect at NERC on October 1, 2020.

Type of Respondents: Generator Owner, Planning Coordinator, Distribution Provider and Transmission Owners.

Estimate of Annual Burden: ⁵ Our estimates are based on the NERC Compliance Registry Summary of Entities as of September 16, 2022.

⁵ Burden is defined as the total time, effort, or financial resources expended by persons to generate, maintain, retain, or disclose or provide information to or for a federal agency. See 5 CFR 1320 for additional information on the definition of information collection burden.

The individual burden estimates include the time needed to gather data, run studies, and analyze study results. These are consistent with estimates for similar tasks in other Commission-approved standards. Estimates for the additional average annual burden and cost ⁶ as follows:

⁶ Commission staff estimates that the industry's skill set and cost (for wages and benefits) for FERC-725N (1) are approximately the same as the Commission's average cost. The FERC 2022 average salary plus benefits for one FERC full-time equivalent (FTE) is $188,922/year (or $91.00/hour).

FERC-725N Mandatory Reliability Standards TPL-007-4, Transmission System Planned Performance for Geomagnetic Disturbance Events
| Annual number ¹ of respondents | Annual number of responses per respondent | Total number of responses | Average burden hours & cost ($) per response | Total annual burden hours & cost ($) (rounded) | Cost per respondent ($)
| (1) | (2) | (1) * (2) = (3) | (4) | (3) * (4) = (5) | (5) ÷ (1)
GO ⁷ | 970 | 1 | 970 | 40 hrs.; $3,640 | 38,800 hrs.; $3,530,800 | $3,640
PC ⁸ | 63 | 1 | 63 | 40 hrs.; $3,640 | 2,520 hrs.; $ 229,320 | 3,640
DP ⁹ | 310 | 1 | 310 | 40 hrs.; $3,640 | 12,400 hrs.; $1,128,400 | 3,640
TO ¹⁰ | 327 | 1 | 327 | 40 hrs.; $3,640 | 13,080 hrs.; $1,190,280 | 3,640
Total |  |  | 1,670 |  | 66,800 hours; $6,078,800 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁷ Generator Owner.

⁸ Planning Coordinator.

⁹ Distribution Provider.

¹⁰ Transmission Owner.

Dated: September 23, 2022.
Kimberly D. Bose,
Secretary.

[FR Doc. 2022-21150 Filed 9-28-22; 8:45 am]

BILLING CODE 6717-01-P